DEPARTMENT OF THE TREASURY

Submission for OMB Review; Comment Request

April 11, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before May 16, 2007 to be assured of consideration.

Internal Revenue Service (IRS)

OMB Number: 1545-xxxx.

Type of Review: New Collection.

Title: EFTPS Individual Enrollment with Third Party Authorization Form.

Form: 9783T.

Description: The information derived from Form 9783T will allow individual taxpayers to authorize a Third Party to pay their federal taxes on their behalf using the Electronic Federal Tax Payment System (EFTPS).

Respondents: Businesses and other for-profit institutions.

Estimated Total Burden Hours: 167 hours.

OMB Number: 1545-xxxx.

Type of Review: New Collection.

Title: Revenue Procedure 2007-x.

Description: The respondents are nonprofit organizations seeking recognition of exemption under certain parts of § 501(c) of the Internal Revenue Code. These organizations must submit a letter application. We need this information to determine whether the organization meets the legal requirements for tax-exempt status. In addition, the information will be used to help the Service delete certain information from the text of an adverse determination letter or ruling before it is made available for public inspection, as required under § 6110.

Respondents: Not-for-profit institutions.

Estimated Total Burden Hours: 200 hours.

OMB Number: 1545-0008.

Type of Review: Extension.

Title: Wage and Tax Statements W-2/W-3 series.

Form: W-2, W-3.

Description: Employers report income and withholding on Form W-2. Forms W-2AS, W-2GU and W-2VI are the U.S. possessions version of Form W-2. The Form W-3 series is used to transmit Forms W-2 to SSA. Forms W-2c, W-3c and W-3cPR are used to correct previously filed Forms W-2, W-3 and W-3PR. Individuals use Form W-2 to prepare their income tax return.

Respondents: Businesses or other for-profit institutions.

Estimated Total Burden Hours: 1 hour.

Clearance Officer: Glenn P. Kirkland, Internal Revenue Service, Room 6516, 1111 Constitution Avenue, NW., Washington, DC 20224, (202) 622-3428.

OMB Reviewer: Alexander T. Hunt, Office of Management and Budget, Room 10235, New Executive Office Building, Washington, DC 20503, (202) 395-7316.

Robert Dahl,
Treasury PRA Clearance Officer.

[FR Doc. E7-7194 Filed 4-13-07; 8:45 am]

BILLING CODE 4830-01-P